DEPARTMENT OF JUSTICE

Federal Bureau of Prisons

Notice of Intent to Prepare a Draft Environmental Impact Statement (DEIS) for Development of a Medium/High-Security Federal Correctional Facility in Terre Haute, Indiana

AGENCY: U.S. Department of Justice, Federal Bureau of Prisons.

ACTION: Notice of Intent to Prepare a Draft Environmental Impact Statement (DEIS).

SUMMARY:

Proposed Action

The United States Department of Justice, Federal Bureau of Prisons has determined that additional medium/high-security federal correctional facilities are needed in its system.

The DEIS will focus upon a 1,000-acre (approximately) tract of land currently controlled by the Federal Bureau of Prisons in Terre Haute, Indiana.

This notice also initiates the Federal Bureau of Prisons' responsibilities under the National Historic Preservation Act of 1966, as amended.

The Federal Bureau of Prisons proposes to build and operate a medium/high-security federal correctional facility in Terre Haute, Indiana. The facility would provide secure correctional habitation for approximately 1,000-1,200 inmates. The Federal Bureau of Prisons proposes to build the facility adjacent to the existing United States Penitentiary, Terre Haute, on a portion of the land currently controlled by the Federal Bureau of Prisons. The site appears to be of sufficient size to provide space for inmate housing, correctional programs, administrative services and other support areas such as parking and perimeter security.

The Process

In the process of evaluating the site, several aspects will receive detailed examination including: utilities, traffic patterns, noise levels, visual intrusion, threatened and endangered species and socioeconomic impacts. Possible archeological and cultural resources will be studied and documented pursuant to the National Historic Preservation Act of 1966, as amended.

Alternatives

In developing the DEIS, the options of “no action” and other “alternatives” for the proposed facility will be fully and thoroughly examined.

Scoping Process

During the preparation of the DEIS, there will be opportunities for public involvement in order to determine the issues to be examined. A public Scoping Meeting will be held at the Terre Haute South High School Cafeteria, 3737 South 7th Street, Terre Haute, Indiana, at 7:00 p.m. on May 17, 2000. The meeting will be well publicized and will be held at a time which will make it possible for the public and interested agencies or organizations to attend. In addition, the Federal Bureau of Prisons will host an agency Scoping Meeting on May 3, 2000, and sponsor other meetings with the public as required.

DEIS Preparation

Public notice will be given concerning the availability of the DEIS for public review and comment.

Address

Questions concerning the proposed action and the DEIS may be directed to: David J. Dorworth, Chief, Site Selection and Environmental Review Branch, Federal Bureau of Prisons, 320 First Street, NW, Washington, DC 20534, telephone (202) 514-6470, telefacsimile (202) 616-6024, email: siteselection@bop.gov.

Dated: April 20, 2000.
David J. Dorworth,
Chief, Site Selection and Environmental Review Branch.

[FR Doc. 00-10323 Filed 4-27-00; 8:45 am]

BILLING CODE 4410-05-P